DEPARTMENT OF THE INTERIOR

Fish and Wildlife Service

Aquatic Nuisance Species Task Force/National Invasive Species Council Prevention Committee Meeting

AGENCY: Fish and Wildlife Service, Interior.

ACTION: Notice of meeting.

SUMMARY: This notice announces a meeting of the Aquatic Nuisance Species (ANS) Task Force/National Invasive Species Council (NISC) Prevention Committee. The meeting topics are identified in the SUPPLEMENTARY INFORMATION section.

DATES: The Aquatic Nuisance Species Task Force/National Invasive Species Council Prevention Committee will meet from 9 a.m. to 4 p.m. on Tuesday, May 4, 2004. Minutes of the meeting will be available for public inspection during regular business hours, Monday through Friday.

ADDRESSES: The Aquatic Nuisance Species Task Force/National Invasive Species Council Prevention Committee meeting will be held at the Main Interior Building, 1849 C Street, NW., Washington, DC 20240 in Room 7000B. Minutes of the meeting will be maintained in the office of Chief, Division of Environmental Quality, U.S. Fish and Wildlife Service, Suite 322, 4401 North Fairfax Drive, Arlington, Virginia 22203-1622.

FOR FURTHER INFORMATION CONTACT: Richard Orr, Prevention Committee Chair, Assistant Director for International Policy and Prevention, National Invasive Species Council, at (202) 354-1882.

SUPPLEMENTARY INFORMATION: Pursuant to section 10(a)(2) of the Federal Advisory Committee Act (5 U.S.C. app. I), this notice announces meetings of the Aquatic Nuisance Species Task Force. The Task Force was established by the Nonindigenous Aquatic Nuisance Prevention and Control Act of 1990.

Topics to be covered during the ANS Task Force/NISC Prevention Committee meeting include: review and approval of the Roles and Responsibilities draft document; identification of the Prevention Committee member's responsibilities to the five working groups; and discussion of actions required to get working groups functioning.

Dated: April 9, 2004.
Everett Wilson,
Acting Co-Chair, Aquatic Nuisance Species Task Force, Assistant Director—Fisheries & Habitat Conservation.

[FR Doc. 04-9139 Filed 4-20-04; 8:45 am]

BILLING CODE 4310-55-P